DEPARTMENT OF DEFENSE

Department of the Army

Corps of Engineers

Notice of Availability of Draft Environmental Impact Statement for the Proposed Folsom South of U.S. Highway 50 Specific Plan Project, in Sacramento County, CA, Corps Permit Application Number SPK-2007-02159

AGENCY: Department of the Army, U.S. Army Corps of Engineers, DOD.

ACTION: Notice of availability.

SUMMARY: Pursuant to the National Environmental Policy Act (NEPA), the U.S. Army Corps of Engineers (USACE), Sacramento District has prepared a Draft Environmental Impact Statement (DEIS) that analyzes the potential effects of implementing each of six on-site land-use and eleven off-site water supply/alignment alternative scenarios for a large-scale, mixed-use, mixed-density master planned community on the approximately 3,502-acre Folsom South of U.S. Highway 50 Specific Plan area (SPA), located within the Sphere of Influence of the City of Folsom, Sacramento County, California. The DEIS has been prepared as a joint document with the City of Folsom (City). The City is the local agency responsible for preparing an Environmental Impact Report in compliance with the California Environmental Quality Act (CEQA).

The DEIS documents the existing condition of environmental resources in and around areas considered for development, and potential impacts on those resources as a result of implementing the alternatives. The on-site land use alternatives considered in detail are: (1) No Project Alternative (No development for both land use and water supply/alignment); (2) No USACE Permit Alternative (no discharge of dredged and/or fill material into waters of the U.S.); (3) Proposed Project Alternative, the Applicants' Preferred Alternative; (4) Resource Impact Minimization Alternative; (5) Centralized Development Alternative; and (6) Reduced Hillside Development Alternative. The off-site water supply/alignment alternatives considered in detail are: (1) No USACE Permit Alternative (no discharge of dredged and/or fill material into waters of the U.S.); (2) Proposed Off-site Water Facility Alternative—Raw Water Conveyance—Grant Line Road Alignment and On-site WTP; (3) Off-site Water Facility Alternative 1—Raw Water Conveyance—Grant Line Road Alignment and White Rock WTP; (4) Off-site Water Facility Alternative 1A—Raw Water Conveyance—Grant Line Road Route Variation Alignment and White Rock WTP; (5) Off-site Water Facility Alternative 2—Treated Water Conveyance—Douglas Road Alignment and Vineyard SWTP; (6) Off-site Water Facility Alternative 2A—Treated Water Conveyance—Douglas Road Route Variation Alignment and Vineyard SWTP; (7) Off-site Water Facility Alternative 2B—Treated Water Conveyance—North Douglas Tanks Variation Alignment and Vineyard SWTP; (8) Off-site Water Facility Alternative 3—Raw Water Conveyance—Douglas Road Alignment and White Rock WTP; (9) Off-site Water Facility Alternative 3A—Raw Water Conveyance—Douglas Road Route Variation Alignment and White Rock WTP; (10) Off-site Water Facility Alternative 4—Raw Water Conveyance to Folsom Boulevard Alignment and Folsom Boulevard WTP; and (11) Off-site Water Facility Alternative 4A—Raw Water Conveyance to Folsom Boulevard—Route Variation Alignment and Folsom Boulevard WTP.

DATES: All written comments must be postmarked on or before September 7, 2010. The USACE and the City will jointly conduct a public meeting that will be held on August 2, 2010 from 5 p.m. to 7 p.m. The public meeting will be held at the Folsom Community Center, 52 Natoma Street, Folsom, California 95630.

ADDRESSES: Comments may be submitted in writing to: Lisa M. Gibson, U.S. Army Corps of Engineers, Sacramento District, Regulatory Division; 1325 J Street, Room 1480, Sacramento, California 95814-2922, or via e-mail to Lisa.M.Gibson2@usace.army.mil. Oral and written comments may also be submitted at the public meeting described in the DATES section.

FOR FURTHER INFORMATION CONTACT: Lisa M. Gibson, (916) 557-5288, or via e-mail at Lisa.M.Gibson2@usace.army.mil.

SUPPLEMENTARY INFORMATION: The South Folsom Property Owners Group, the project applicants, are seeking adoption by the City of the proposed SPA project and associated entitlements. The City and the South Folsom Property Owners Group are also seeking authorization from USACE for the placement of dredged or fill material into waters of the United States pursuant to Section 404 of the Clean Water Act. The Proposed Project includes 10,210 residential units at various densities on a total of 1,477.2 acres; 362.8 acres designated for commercial and industrial use, including a regional shopping center; public/quasi-public uses; elementary, middle, and high schools on 179.3 acres; 121.7 acres of community and neighborhood parks; stormwater detention basins; 1,053.1 acres of open-space areas and open-space preserves; and major roads with landscaping. In addition, the proposed project includes the construction of several off-site infrastructure facilities, including intersection expansions to allow access to and from U.S. 50 and the SPA, an overpass of U.S. 50, two roadway connections and sewer pipelines from the SPA into El Dorado Hills, a sewer force main connection to the existing City system, a detention basin and water pipelines and facilities. The SPA contains approximately 84.94 acres of waters of the U.S. The proposed land-use plan would involve the discharge of fill material into approximately 39.50 acres of waters of the U.S., and indirect impacts to 0.29 acres of waters of the U.S. resulting from fragmentation of existing waters. In addition, the proposed land-use plan involves the preservation of approximately 44.19 acres of waters of the U.S., concentrated primarily on the Alder Creek corridor and adjacent tributaries and wetlands.

For the proposed off-site water supply/alignment for the SPA, the City is proposing off-site water facilities that would involve the permanent assignment to the City of the contractual entitlements to Central Valley Project (CVP) contract entitlement water, totaling not more than 8,000 acre-feet per year (AFY) from the Natomas Central Mutual Water Company (NCMWC), diverting the water supply from the Sacramento River and conveying the water to the SPA. The proposed water supply would also involve the City purchasing dedicated capacity within the Freeport Regional Water Project (Freeport Project) from Sacramento County Water Agency (SCWA), which would serve as the point of diversion (POD) on the Sacramento River and partial conveyance pathway for not more than 6,000 AFY purchased from NCMWC. The City proposes to add the Freeport POD to the assigned CVP water to facilitate the diversion of these supplies at the existing Freeport Project diversion. The City proposes to pump and convey the assigned NCMWC CVP water supply through the Freeport Project diversion facility and conveyance pipeline to the point where SCWA and East Bay Municipal Utility District pipelines split. The City would then construct new water supply conveyance infrastructure from the bifurcation point to the SPA within an approximately 200-foot corridor. The corridor for the proposed construction of the water line and the proposed location for water treatment plants contains approximately 50.7 acres of waters of the U.S. The estimate of waters of the U.S. within the proposed water supply corridor was determined based on aerial photographs and National Wetland Inventory maps, and has not been field delineated or verified by USACE. Because the City has not yet completed project specific engineering details for the proposed off-site water supply/alignment, the exact impacts to waters of the U.S. cannot be determined. However, construction of the water supply infrastructure is expected to occur within an area of less than 100-feet in width, and, depending on which side of the corridor construction would occur, would impact an estimated 5.7 acres or 6.8 acres of waters of the U.S.

USACE invites full public participation to promote open communication and better decision-making. All persons and organizations that have an interest in the SPA are urged to participate in the NEPA process.

An electronic version of the DEIS may be viewed at the USACE, Sacramento District Web site: http://www.spk.usace.army.mil/organizations/cespk-co/regulatory/EISs/EIS-index.html: In addition, a hardcopy of the DEIS may also be reviewed at the following locations:

(1) City of Folsom City Hall, Community Development Department, 50 Natoma Street, Folsom, California 95630.

(2) Folsom Public Library, Georgia Murray Building, 411 Stafford Street, Folsom, California 95630.

June 23, 2010.
Thomas C. Chapman,
Colonel, U.S. Army, District Engineer.

[FR Doc. 2010-16135 Filed 7-1-10; 8:45 am]

BILLING CODE 3720-58-P